DEPARTMENT OF JUSTICE

Antitrust Division

Notice Pursuant to the National Cooperative Research and Production Act of 1993—Petroleum Environmental Research Forum Project No. 2014-12, Impacts of Processing Unconventional Crudes on Refinery Wastewater Treatment Plant Operations

Notice is hereby given that, on February 26, 2019, pursuant to Section 6(a) of the National Cooperative Research and Production Act of 1993, 15 U.S.C. 4301 et seq. (“the Act”), Petroleum Environmental Research Forum Project No. 2014-12, Impacts of Processing Unconventional Crudes on Refinery Wastewater Treatment Plant Operations (“PERF Project No. 2014-12”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research and Engineering Company, Spring, TX; Chevron Energy Technology Company Division, Houston, TX; BP Products North America, Inc., Naperville, IL; Suez Treatment Solutions, Inc., Ashland, VA; Tetra Tech, Inc., Nashville, TN; Phillips 66 Company, Bartlesville, OK; and Valero Services, Inc., San Antonio, TX. The general area of PERF Project No. 2014-12's planned activity is, through cooperative research efforts, to explore the impact of processing unconventional crudes by developing a catalog of contaminants, issues, and experiences.

Suzanne Morris,
Chief, Premerger and Division Statistics Unit, Antitrust Division.

[FR Doc. 2019-05222 Filed 3-19-19; 8:45 am]

BILLING CODE 4410-11-P